DEPARTMENT OF THE INTERIOR

Office of the Secretary

National Invasive Species Council

AGENCY: Office of the Secretary, Interior.

ACTION: Notice of Comment Period Extension—Second Draft of the National Invasive Species Management Plan, “Meeting the Challenge.”

SUMMARY: The National Invasive Species Council announced the availability of the draft National Management Plan on October 2, 2000, for a public review period of 45 days. Pursuant to Executive Order 13112, this Plan was due in August of this year. In response to a number of requests, the Council is extending the comment period for an additional 15 calendar days. The new deadline for submitting comments will now be 6:00 p.m. (eastern) on Friday, December 1, 2000.

Availability: Copies of the draft Plan can still be obtained via the Council's website: www.invasivespecies.gov; or by contacting the Council Staff at 202-208-6336 (phone); 202-208-1526 (Fax); or by e-mail at invasivespecies@ios.doi.gov.

Where to Send Comments: Comments can be submitted to the Council Staff via regular mail to the address below, via e-mail at invasivespecies@ios.doi.gov, or by fax to 202-208-1526.

ADDRESSES: National Invasive Species Council, 1951 Constitution Avenue, NW., Suite 320, Washington, DC 20240.

FOR FURTHER INFORMATION CONTACT: Kelsey Passé, National Invasive Species Council Program Analyst; E-mail: Kelsey_Passe@ios.doi.gov; Phone: (202) 208-6336; Fax: (202) 208-1526.

Dated: November 13, 2000.
Lori Williams,
Executive Director, National Invasive Species Council.

[FR Doc. 00-29416 Filed 11-15-00; 8:45 am]

BILLING CODE 4310-RK-P